DEPARTMENT OF ENERGY

10 CFR Part 835

Technical Standard DOE-STD-1095-2011, Department of Energy Laboratory Accreditation for External Dosimetry

AGENCY: Office of Health, Safety and Security, Department of Energy.

ACTION: Notification of updated Technical Standard.

SUMMARY: The Department of Energy (DOE or the Department) is issuing Technical Standard DOE-STD-1095-2011, Department of Energy Laboratory Accreditation for External Dosimetry, January 2011. This standard provides updated technical criteria for performance testing for, and provides a requirement for onsite quality assurance assessments of, whole body and extremity dosimetry programs in use at DOE sites. The testing and assessment results are used, in part, to determine whether to accredit dosimetry programs in accordance with the DOE Laboratory Accreditation Program (DOELAP). The effective date for the new Technical Standard is April 1, 2011.

FOR FURTHER INFORMATION CONTACT: Steven G. Zobel, CHP, U.S. Department of Energy, Office of Health, Safety and Security, Office of Corporate Safety Analysis, 1000 Independence Ave., SW., Washington, DC 20585, 301-903-2615, or steve.zobel@hq.doe.gov.

An electronic copy of this Federal Register notice, as well as other relevant DOE documents concerning this subject, is available on a Web page at: http://www.hss.energy.gov/CSA/CSP/doelap/index.html.

SUPPLEMENTARY INFORMATION: DOE previously administered its laboratory accreditation program for whole body external dosimetry pursuant to DOE Order 5480.15, Department of Energy Laboratory Accreditation Program for Personnel Dosimetry, dated December 14, 1987. At that time, DOELAP used Technical Standards DOE/EH-0027, Department of Energy Standard for the Performance Testing of Personnel Dosimetry Systems, December 1986, and DOE/EH-0026, Handbook for the Department of Energy Laboratory Accreditation Program for Personnel Dosimetry Systems, December 1986, to evaluate contractor personnel dosimetry programs. DOE/EH-0027 was based on American National Standards Institute (ANSI) N13.11-1983, American National Standard—Criteria for Testing Personnel Dosimetry Performance, Pacific Northwest Laboratory PNL-4515, Criteria for Testing Personnel Dosimetry Performance, 1984, and comments received during peer review by DOE and DOE contractor personnel. Both DOELAP Technical Standards remained in effect through 2010.

On December 14, 1993, DOE promulgated 10 CFR part 835, Occupational Radiation Protection, (58 FR 65458), which included a requirement for DOELAP accreditation for external dosimetry programs. This regulatory requirement led to the cancellation of DOE Order 5480.15. Technical Standard DOE-STD-1095-95, Department of Energy Laboratory Accreditation Program for Personnel Dosimetry Systems, was published in December 1995 to establish the criteria for DOELAP accreditation pursuant to 10 CFR 835.402(b). The recent updating of ANSI standards for performance testing whole body dosimeters (ANSI N13.11-2009, American National Standard for Dosimetry—Personnel Dosimetry Performance—Criteria for Testing) and extremity dosimeters (ANSI N13.32-2008, American National Standard—Performance Testing of Extremity Dosimeters) led DOE to revise its DOELAP dosimetry Technical Standards. In planning the revision, it was decided to make DOE-STD-1095 the primary Technical Standard for accrediting external dosimetry programs by cancelling DOE/EH-0026 and -0027 and incorporating both of the recently updated ANSI standards by reference into the new DOE Technical Standard. Other changes include changing “Personnel Dosimetry Systems” to “External Dosimetry” in the title of the new Technical Standard, providing for limited retesting, and adding an incentive for obtaining an exemption from a future onsite assessment. The change to the Technical Standard's title was made to better identify the Standard's purpose and does not change the requirement for dosimetry program accreditation provided in 10 CFR 835.402(b). The guidance information in DOE/EH-0026 and -0027 will be updated and published in a supplemental, nonregulatory document.

This Technical Standard is effective on April 1, 2011.

Issued in Washington, DC.
Glenn S. Podonsky,
Chief Health, Safety and Security Officer, Office of Health, Safety and Security.

[FR Doc. 2011-16575 Filed 6-30-11; 8:45 am]

BILLING CODE 6450-01-P